DEPARTMENT OF ENERGY

Federal Energy Regulatory Commission

[Docket No. RP00-530-000]

Dauphin Island Gathering Partners; Notice of Proposed Changes in FERC Gas Tariff

September 7, 2000.

Take notice that on August 31, 2000, Dauphin Island Gathering Partners (DIGP) tendered for filing as part of its FERC Gas Tariff, First Revised Volume No. 1, the following tariff sheets, with an effective date of October 1, 2000:

Third Revised Sheet No. 6

First Revised Sheet No. 7

First Revised Sheet No. 250

DIGP states that the filing is being made pursuant to Section 154.402(c) of the Commission's Regulations pursuant to FERC Order No. 472 in Docket No. RM87-3-000. DIGP states that this is its first ACA charge filing, and that it has revised Sheet Nos. 6, 7 and 250 to reflect the ACA unit charge of $0.0022 per Dekatherm as specified by the Commission.

DIGP states that copies of the filing are being served on its customers and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23454 Filed 9-12-00; 8:45 am]

BILLING CODE 6717-01-M